FEDERAL ELECTION COMMISSION

Sunshine Act Meetings Previously Announced Date and Time: Monday, April 10, 2006, 10 a.m. Meeting Open to the Public. This Meeting Was Cancelled

Date and Time: Tuesday, April 18, 2006, 10 a.m.

Place: 999 E Street, NW., Washington, DC.

Status: This Meeting Will Be Closed To The Public.

Items to Be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Special Executive Session: Wednesday, April 19, 2006, 10:30 a.m. This Meeting Will Be Closed To The Public Pursuant To 11 CFR 2.4(b)(1) and 2.4(b)(2).

Date and Time: Thursday, April 20, 2006, at 10 a.m.

Place: 999 E Street, NW., Washington, DC (Ninth Floor).

Status: This Meeting Will Be Open To The Public.

Items To Be Discussed:

Correction and Approval of Minutes.

Advisory Opinion 2006-07: Representative J.D. Hayworth on behalf of J.D. Hayworth for Congress.

Advisory Opinion 2006-08: Matthew Brooks by counsel, Craig Engle.

Advisory Opinion 2006-09: The American Institute for Certified Public Accountants and The American Institute for Certified Public Accountants Political Action Committee by counsel, Russell L. Smith.

Advisory Opinion 2006-10: EchoStar Satellite LLC by counsel, Robert F. Bauer and Caroline P. Goodson.

Advisory Opinion 2006-11: Washington Democratic State Central Committee by counsel, Marc E. Elias and Caroline P. Goodson.

Advisory Opinion 2006-12: International Association of Machinists and Aerospace Workers (“IAM”) and the Transportation Communications International Union/AM (“TCU/IAM”) by counsel, Laurence E. Gold and Michael B. Trister.

Routine Administrative Matters.

For Further Information Contact: Mr. Robert Biersack, Press Office, Telephone: 202-694-1220.

Mary W. Dove,
Secretary of the Commission.

[FR Doc. 06-3605 Filed 4-11-06; 8:45 am]

BILLING CODE 6715-01-M